DEPARTMENT OF ENERGY

Federal Energy Regulatory Commission

[Project No. 14550-001]

New England Hydropower Company, LLC, Hanover Pond Hydro, LLC; Notice of Transfer of Exemption

1. By letter filed July 20, 2016, New England Hydropower Company, LLC informed the Commission that the exemption from licensing for the Hanover Pond Dam Hydroelectric Project No. 14550, originally issued May 19, 2016 ¹ has been transferred to Hanover Pond Hydro, LLC. The project is located on the Quinnipiac River in New Haven County, Connecticut. The transfer of an exemption does not require Commission approval.

¹ Order Granting Exemption From Licensing (10 MW or Less), 155 FERC ¶ 62,132 (2016).

2. Hanover Pond Hydro, LLC is now the exemptee of the Hanover Pond Dam Hydroelectric Project, No. 14550. All correspondence should be forwarded to: Mr. Michael C. Kerr, CEO, Hanover Pond Hydro, LLC, 100 Cummings Center Drive, Suite 428N, Beverly, MA 01915.

Dated: July 28, 2016.
Kimberly D. Bose,
Secretary.

[FR Doc. 2016-18359 Filed 8-2-16; 8:45 am]

BILLING CODE 6717-01-P